DEPARTMENT OF ENERGY

Bonneville Power Administration

Shepherds Flat Wind Project

AGENCY: Bonneville Power Administration (BPA), Department of Energy (DOE).

ACTION: Notice of Availability of Record of Decision (ROD).

SUMMARY: The Bonneville Power Administration (BPA) has decided to offer contract terms for the electrical interconnection into the Federal Columbia River Transmission System (FCRTS) of up to 846 megawatts of power to be generated by the proposed Shepherds Flat Wind Project (Wind Project). Caithness Shepherds Flat LLC proposes to construct and operate the proposed Wind Project in Gilliam and Morrow Counties, Oregon, and has requested interconnection to the FCRTS at BPA's Slatt Substation in Gilliam County, Oregon. BPA will construct a new 230-kV yard at the Slatt Substation to accommodate this additional power in the FCRTS. This decision to interconnect the Wind Project is consistent with and tiered to BPA's Business Plan Final Environmental Impact Statement (DOE/EIS-0183, June 1995), and Business Plan ROD (August 1995).

ADDRESSES: Copies of this tiered ROD and the Business Plan EIS and ROD may be obtained by calling BPA's toll-free document request line, 1-800-622-4520. The RODs and EIS are also available on our Web site, http://www.efw.bpa.gov.

FOR FURTHER INFORMATION, CONTACT: Doug Corkran, Bonneville Power Administration—KEC-4, P.O. Box 3621, Portland, Oregon 97208-3621; toll-free telephone number: 1-800-622-4519; fax number: 503-230-5699; or e-mail: dfcorkran@bpa.gov.

Issued in Portland, Oregon, on July 18, 2008.
Stephen J. Wright,
Administrator and Chief Executive Officer.

[FR Doc. E8-17241 Filed 7-25-08; 8:45 am]

BILLING CODE 6450-01-P